DEPARTMENT OF TRANSPORTATION

Federal Motor Carrier Safety Administration

[Docket Nos. FMCSA-2000-7827 and FMCSA-2000-7721]

Agency Information Collection Activities Under OMB Review: OMB Control Nos. 2126-003, 2126-0018, and 2126-0019

AGENCY: Federal Motor Carrier Safety Administration, DOT.

ACTION: Notice and request for comments.

SUMMARY: The FMCSA has sent the three Information Collection Requests (ICRs) described in this notice to the Office of Management and Budget (OMB) for review and comment. The ICRs describe each information collection and its expected burden. We published two Federal Register notices on these information collections on September 5, 2000 (65 FR 53801; 65 FR 53802). The notices had a 60-day comment period. We are required to send ICRs to OMB under the Paperwork Reduction Act.

DATES: Please submit comments by March 15, 2001.

FOR FURTHER INFORMATION CONTACT: Mr. Larry Minor, (202) 366-4012 (for OMB No. 2126-0003), Ms. Marion Mills-Lee, (202) 358-7051 (for OMB No. 2126-0018), or Ms. Pat Wills, (202) 358-7043 (for OMB No. 2126-0019), Federal Motor Carrier Safety Administration, 400 Seventh Street, SW., Washington, DC 20590-0001. Office hours are from 7:30 a.m. to 4 p.m., e.t., Monday through Friday, except Federal holidays.

ADDRESSES: Send comments to the Office of Information and Regulatory Affairs, Office of Management and Budget, 725-17th Street, NW., Washington, DC 20593, Attention: DOT Desk Officer. We request your comments on whether the collection of information is necessary for the FMCSA to meet its goal of reducing truck crashes, including whether the information is useful to this goal; the accuracy of the estimate of the burden of the information collection; ways to enhance the quality, utility and clarity of the information collected; and ways to minimize the burden of the collection of information on respondents, including the use of automated collection techniques or other forms of information technology. OMB wants to receive comments within 30 days of publication of this notice in order to act on the ICRs quickly.

SUPPLEMENTARY INFORMATION:

1. Title: Inspection, Repair and Maintenance.

OMB Number: 2126-0003.

Background: Motor carriers must maintain, or require maintenance of, records documenting the inspection, repair and maintenance activities performed on their owned and leased motor vehicles. There are no prescribed forms. The records are used by the FMCSA and its representatives to verify motor carriers' compliance with the inspection, repair and maintenance standards in part 396 of the Federal Motor Carrier Safety Regulations.

Respondents: Motor carriers, commercial motor vehicle (CMV) drivers.

Estimated Total Annual Burden: 35,107,856 hours.

2. Title: Request for Revocation of Authority Granted.

OMB Approval Number: 2126-0018.

Background: Title 49 of the United States Code (U.S.C.) authorizes the Secretary of Transportation to promulgate regulations governing the registration of for-hire motor carriers of regulated commodities (49 U.S.C. 13902), surface freight forwarders (49 U.S.C. 13903), and property brokers (49 U.S.C. 13904). The FMCSA carries out this registration program under authority delegated by the Secretary of Transportation. Under Title 49 U.S.C. 13905, each registration is effective from the date specified and remains in effect for such period as the Secretary of Transportation determines appropriate by regulation. Title 49 U.S.C. 13905(c) grants the Secretary the authority to amend or revoke a registration at the registrant's request. Form OCE-46 is used by transportation entities to voluntarily apply for revocation of their registration in whole or in part. The form requests the registrant's docket number, name and address, and the reasons for the revocation request.

Respondents: Motor carriers, freight forwarders, and brokers.

Average Burden per Response: 15 minutes.

Estimated Total Annual Burden: 250 hours (1,000 motor carriers × 15 minutes/60 minutes).

3. Title: Application for Certificate of Registration for Foreign Motor Carriers and Foreign Motor Private Carriers Under 49 U.S.C. 13902(c).

OMB Approval Number: 2126-0019.

Background: Title 49 U.S.C. 13902(c) sets forth basic licensing procedures for registering foreign motor carriers to operate across the border into the United States. Title 49 CFR 368 sets forth related regulations. The FMCSA carries out this registration program under authority delegated by the Secretary of Transportation. Foreign motor carriers use Form OP-2 to apply for registration with the FMCSA. The form requests information on the motor carrier's location, form of business, ownership and control, and proposed operations.

Respondents: Foreign motor carriers.

Average Burden per Response: 2 hours.

Estimated Total Annual Burden: 2,000 hours (1,000 motor carriers × 2 hours).

Authority: The Paperwork Reduction Act of 1995, 44 U.S.C. Chapter 35, as amended; and 49 CFR 1.73.

Issued on: February 7, 2001.
Julie Anna Cirillo,
Assistant Administrator and Chief Safety Officer.

[FR Doc. 01-3633 Filed 2-12-01; 8:45 am]

BILLING CODE 4910-EX-P